DEPARTMENT OF THE INTERIOR

Bureau of Land Management

[L19200000.XX0000PN.LLCA930000 LRORB2027900 20XL]

Public Land Order No. 7897; El Paso Project 8: Modification, Hidalgo County, NM

AGENCY: Bureau of Land Management, Interior.

ACTION: Public Land Order.

SUMMARY: This Public Land Order (PLO) withdraws, subject to valid existing rights, 12.74 acres of Federal lands from settlement, sale, location, and entry under the general land laws, including the United States mining laws, mineral leasing laws, and geothermal leasing laws, for a period ending September 18, 2022, for use by the Department of the Army for border security purposes. This withdrawal also transfers administrative jurisdiction of the lands to the Department of the Army.

DATES: This PLO takes effect on July 15, 2020. This withdrawal will expire on September 18, 2022.

FOR FURTHER INFORMATION CONTACT: Timothy Spisak, State Director Mew Mexico, telephone: 505-954-2000, email: tspisak@blm.gov. Persons who use a telecommunications device for the deaf (TDD) may call the Federal Relay Service (FRS) at 1-800-877-8939 to contact Mr. Spisak. The FRS is available 24 hours a day, 7 days a week, to leave a message or question. You will receive a reply during normal business hours.

SUPPLEMENTARY INFORMATION:

ORDER

By virtue of the authority vested in the Secretary of the Interior by Section 204 of the Federal Land Policy and Management Act of 1976, 43 U.S.C. 1714, and in accordance with subsection 204(e) of that Act, it is determined that an emergency situation exists and that extraordinary measures must be taken to preserve values that would otherwise be lost. It is therefore ordered as follows:

1. Subject to valid existing rights, the following described Federal lands are hereby withdrawn from settlement, sale, location, and entry under the general land laws, including the United States mining laws, mineral leasing laws, and geothermal leasing laws, and jurisdiction over such lands is hereby transferred to the Department of the Army for border security purposes:

A strip of land of the uniform width of 60 feet lying contiguous to and parallel with the international border between the United States and Mexico, located in the County of Hidalgo, State of New Mexico, and situate in the following described locations:

New Mexico Principal Meridian, New Mexico

T. 34 S, R. 17 W,

Sec. 19;

Sec. 20; W of the N and S centerline of SE1/4.

The areas described above aggregate 12.74 acres of Federal lands in Hidalgo County.

2. This withdrawal will expire on September 18, 2022, unless it is extended in accordance with subsections (c)(1) or (d), whichever is applicable, and (b)(1) of Section 204 of the Federal Land Policy and Management Act of 1976, 43 U.S.C. 1714.

Dated: July 15, 2020.
David L. Bernhardt,
Secretary of the Interior.

[FR Doc. 2020-15898 Filed 7-21-20; 8:45 am]

BILLING CODE 4310-40-P